DEPARTMENT OF ENERGY

Federal Energy Regulatory Commission

[Project No. 9690-109]

Eagle Creek Hydropower, LLC, Eagle Creek Land Resources, LLC, Eagle Creek Water Resources, LLC; Notice of Application Accepted for Filing, Soliciting Motions To Intervene, Protests, and Comments

Take notice that the following hydroelectric application has been filed with the Commission and is available for public inspection:

a. Type of Application: Amendment to License.

b. Project No.: 9690-109.

c. Date Filed: June 19, 2012.

d. Applicants: Eagle Creek Hydropower, LLC; Eagle Creek Land Resources, LLC; and Eagle Creek Water Resources, LLC.

e. Name of Project: Rio Hydroelectric Project.

f. Location: The project is located on the Mongaup River in Orange County, New York.

g. Filed Pursuant to: Federal Power Act, 16 U.S.C. 791(a)-825(r).

h. Applicant Contact: Robert Gates, Senior Vice President—Operations, Eagle Creek Hydropower, LLC, Eagle Creek Water Resources, LLC, Eagle Creek Land Resources, LLC, 65 Madison Avenue, Suite 500, Morristown, NJ 07960, (973) 998-8403.

i. FERC Contact: Steven Sachs at (202) 502-8666 or Steven.Sachs@ferc.gov.

j. Deadline for filing motions to intervene, protests, and comments is 30 days from the issuance date of this notice.

All documents may be filed electronically via the Internet. See 18 CFR 385.2001(a)(1)(iii) and the instructions on the Commission's Web site at http://www.ferc.gov/docs-filing/efiling.asp. If unable to be filed electronically, documents may be paper-filed. To paper-file, an original and seven copies should be mailed to: The Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-9690-109) on any motions, protests, or comments filed.

k. Description of Application: The licensee proposes to install a second powerhouse containing a single 800 kilowatt turbine/generator unit designed to release the required 100 cubic foot per second minimum flow. The new powerhouse would be located about 300 feet downstream of the project's dam and draw water through a new 48-inch-diameter underground penstock which would tap into the project's existing pipeline. The licensee also proposes to construct a new access road, transmission line, and parking area associated with the new powerhouse.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call (866) 208- 3676 or email FERCOnlineSupport@ferc.gov, for TTY, call (202) 502-8659. A copy is also available for inspection and reproduction at the address in item (h) above.

m. Individuals desiring to be included on the Commission's mailing list should so indicate by writing to the Secretary of the Commission.

n. Motions to Intervene, Protests, and Comments: Anyone may submit a motion to intervene, protest, or comments in accordance with the requirements of Rules of Practice and Procedure, 18 CFR 385.210, .211, .214. In determining the appropriate action to take, the Commission will consider all protests or other comments filed, but only those who file a motion to intervene in accordance with the Commission's Rules may become a party to the proceeding. Any motions to intervene, protests, or comments must be received on or before the specified comment date for the particular application.

o. Filing and Service of Responsive Documents: Any filing must: (1) Bear in all capital letters the title “MOTION TO INTERVENE,” “PROTEST,” or “COMMENTS” as applicable; (2) set forth in the heading the name of the applicant and the project number of the application to which the filing responds; (3) furnish the name, address, and telephone number of the person intervening, protesting, or commenting; and (4) otherwise comply with the requirements of 18 CFR 385.2001 through 385.2005. All motions to intervene, protests, or comments must set forth their evidentiary basis and otherwise comply with the requirements of 18 CFR 4.34(b). All motions to intervene, protests, or comments should relate to project works which are the subject of the application. Agencies may obtain copies of the application directly from the applicant. A copy of any motion to intervene or protest must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 12, 2012.
Kimberly D. Bose,
Secretary.

[FR Doc. 2012-17657 Filed 7-19-12; 8:45 am]

BILLING CODE 6717-01-P